DEPARTMENT OF HEALTH AND HUMAN SERVICES

Centers for Disease Control and Prevention

[Docket No. CDC-2012-0004]

Draft Public Health Action Plan—A National Public Health Action Plan for the Detection, Prevention, and Management of Infertility

AGENCY: Centers for Disease Control and Prevention (CDC), Department of Health and Human Services (HHS).

ACTION: Extension of public comment period.

SUMMARY: On May 16, 2012, the Centers for Disease Control and Prevention (CDC), located within the Department of Health and Human Services (HHS) published a notice in the Federal Register requesting public comment on the draft National Public Health Action Plan for the Detection, Prevention, and Management of Infertility (77 FR 28883). Written and electronic comments were to be received on or before June 15, 2012. HHS/CDC has received a request asking for a 30 day extension of the comment period. In consideration of this request, HHS/CDC is extending the comment period to July 16, 2012.

DATES: Written comments must be received on or before July 16, 2012. Please refer to SUPPLEMENTARY INFORMATION for additional information.

ADDRESSES: You may submit comments, identified by Docket No. CDC-2012-0004 by any of the following methods:

Internet: Access the Federal eRulemaking portal at http://www.regulations.gov. Follow the instructions for submitting comments.

Mail: Centers for Disease Control and Prevention, National Center for Chronic Disease Prevention and Health Promotion, Division of Reproductive Health, Attn: National Public Health Action Plan for the Detection, Prevention, and Management of Infertility, Docket No. CDC-2012-0004, 4770 Buford Highway NE., Mailstop K-34, Atlanta, Georgia 30341.

All relevant comments received will be posted publicly without change, including any personal or proprietary information provided. To download an electronic version of the plan, please access http://www.regulations.gov.

Written comments, identified by Docket No. CDC-2012-0004, will be available for public inspection Monday through Friday, except for legal holidays, from 9 a.m. until 5 p.m., Eastern Daylight Time, at 2900 Woodcock Blvd., Atlanta, Georgia 30341. Please call ahead to (770) 488-5200 and ask for a representative from the Division of Reproductive Health to schedule your visit. Comments may also be viewed at www.regulations.gov.

FOR FURTHER INFORMATION CONTACT: Denise Jamieson, Centers for Disease Control and Prevention, National Center for Chronic Disease Prevention and Health Promotion, Division of Reproductive Health, 4770 Buford Highway NE., Mailstop K-34, Atlanta, Georgia 30341, (770) 488-5200.

SUPPLEMENTARY INFORMATION: In 2007, a CDC-wide ad hoc workgroup formed to examine the full scope of infertility activities across the agency. This workgroup conducted an assessment to identify gaps and opportunities in public health surveillance, research, communications, programs, and policy development, which led to the 2010 publication of a white paper outlining the need for a national plan, with a public health focus, on infertility prevention, detection, and management. In consultation with many governmental and nongovernmental partners, CDC developed the National Public Health Action Plan for the Detection, Prevention and Management of Infertility. Addressing both male and female infertility, the plan outlines and summarizes actions needed to promote, preserve, and restore the ability of women in the United States to conceive, carry a pregnancy to term, and deliver a healthy infant. This goal extends beyond simply addressing the inability to conceive but also focuses on reducing the burden of impaired fecundity by promoting behaviors that maintain fertility; by promoting prevention, early detection, and treatment of medical conditions; and by reducing environmental and occupational threats to fertility. Given the public health focus of this action plan, promoting healthy pregnancy outcomes associated with treating and managing infertility is also important, as is improving the efficacy and safety of infertility treatment.

The document is organized into three chapters: “Detection of Infertility,” “Prevention of Infertility,” and “Management of Infertility.” Each chapter addresses the topic's public health importance, existing challenges, and opportunities for action to decrease the impact of infertility on the public's health. The suggested opportunities provide federal and other government agencies, professional and consumer organizations, and other partners and stakeholders a foundation and platform to work together to decrease the burden of infertility in the United States.

Since the draft plan was published on May 16, 2012, HHS/CDC has received a request to extend the comment period by an additional 30 days. HHS/CDC is committed to affording the public a meaningful opportunity to comment on the draft plan and welcomes comments.

HHS/CDC has posted the original notice and all related materials on www.regulations.gov.

Dated: June 20, 2012.
Kathleen Sebelius,
Secretary, Department of Health and Human Services.

[FR Doc. 2012-15642 Filed 6-26-12; 8:45 am]

BILLING CODE 4163-18-P